DEPARTMENT OF VETERANS AFFAIRS

[OMB Control No. 2900-0847]

Proposed Information Collection: (Veterans Employment Pay For Success (VEPFS), Grant Program Application); Activity: Comment Request.

AGENCY: Office of Policy and Planning, Department of Veterans Affairs.

ACTION: Notice.

SUMMARY: The Office of Policy and Planning, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before January 3, 2017.

ADDRESSES: Submit written comments on the collection of information through Federal Docket Management System (FDMS) at www.Regulations.gov or to Patrick Littlefield, Office of Policy and Planning (008), VA Center for Innovation, Department of Veterans Affairs, 810 Vermont Avenue (B-34) NW., Washington, DC 20420 or email to patrick.littlefield@va.gov. Please refer to “OMB Control No. 2900-0847” in any correspondence. During the comment period, comments may be viewed online through the FDMS.

FOR FURTHER INFORMATION CONTACT: Cynthia Harvey-Pryor (202) 461-5870 or email: cynthia.harvey-pryor@va.gov.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, the Office of Policy and Planning invites comments on: (1) Whether the proposed collection of information is necessary for the proper performance of the Office of Policy and Planning's functions, including whether the information will have practical utility; (2) the accuracy of the Office of Policy and Planning's estimate of the burden of the proposed collection of information; (3) ways to enhance the quality, utility, and clarity of the information to be collected; and (4) ways to minimize the burden of the collection of information on respondents, including through the use of automated collection techniques or the use of other forms of information technology.

Title: Veterans Employment Pay For Success (VEPFS), Grant Program Application.

OMB Control Number: 2900-0847.

Type of Review: Extension of an approved collection.

Abstract: Section 3119 of title 38, United States Code, authorizes the Secretary of Veterans Affairs to make grants to or contract with public or nonprofit agencies, including institutions of higher learning, to advance “the knowledge, methods, techniques, and resources available for use in rehabilitation programs for veterans.” Section 3119 specifically authorizes the Secretary to make grants to such agencies to conduct or provide support for projects which are “designed to increase the resources and potential for accomplishing the rehabilitation of disabled veterans.” VA has codified these provisions in its regulations at 38 CFR 21.390 Rehabilitation research and special projects. The purpose of the VEPFS program is to provide one or more grants to fund Outcomes Payments for one or more PFS projects that seek to improve employment outcomes for Veterans with a Service-connected Mental Health Disability.

Affected Public: Individuals or households.

Estimated Annual Burden: 2000 hours.

Estimated Average Burden Per Respondent: 80 hours.

Frequency of Response: On occasion.

Estimated Number of Respondents: 25.

By direction of the Secretary:
Cynthia Harvey-Pryor,
Program Specialist, Office of Privacy and Records Management, Department of Veterans Affairs.

[FR Doc. 2016-26494 Filed 11-2-16; 8:45 am]

BILLING CODE 8320-01-P